DEPARTMENT OF HOMELAND SECURITY

[Docket No. DHS-2018-0004]

Notice of Critical Infrastructure Partnership Advisory Council Critical Infrastructure Summit

AGENCY: Office of Infrastructure Protection, National Protection and Programs Directorate, DHS.

ACTION: Announcement of public meeting; request for comments.

SUMMARY: The National Protection and Programs Directorate announces the Critical Infrastructure Partnership Advisory Council (CIPAC) Critical Infrastructure Summit. This public meeting is an opportunity to build public awareness of critical infrastructure topics and allows CIPAC members to exchange ideas and engage in interactive discussion on cross-sector key issues, activities, goals, and initiatives within the sixteen (16) critical infrastructure sectors. The intended goal of the meeting is to develop useful and actionable recommendations for the upcoming year. To facilitate public participation, we are inviting public comment on the issues to be considered by the Council at this Summit.

DATES:

Public Comments: Written comments must be received no later than 12:00 p.m. local time on February 27, 2018, in order to be considered by the Council in its meeting.

Meeting: The meeting will be held on Thursday, March 1, 2018 from 8:45 a.m. to 5:00 p.m. local time.

ADDRESSES: The CIPAC Critical Infrastructure Summit will be held at the Hilton Crystal City at Washington Reagan National Airport, Virginia Ballroom, 2399 Jefferson Davis Highway, Arlington, VA 22202.

Public Comments: Written Comments in advance on the meeting agenda topics, identified by docket number “DHS-2018-0004”, by any of the following methods:

• Federal eRulemaking Portal: http://www.regulations.gov. Follow the instructions for submitting written comments.

• Email: CIPAC@hq.dhs.gov. Include docket number DHS-2018-0004 in the subject line of the message.

• Fax: 703-603-5190.

• Mail: Renee Murphy, Department of Homeland Security, National Protection and Programs Directorate, 245 Murray Lane SW, Mail Stop 0607, Arlington, VA 20598-0607. Please allow a minimum of 2 weeks' time for delivery if submitting comments via mail.

Instructions: All submissions received must include the agency name and the docket number for this notice. All written comments received will be posted without alteration at www.regulations.gov, including any personal information provided. For detailed instructions on sending comments and additional information on participating in the upcoming CIPAC Critical Infrastructure Summit, see the “Public Participation” heading of the SUPPLEMENTARY INFORMATION section of this document.

Docket: For access to the docket and to read public comments received in advance by the CIPAC, go to www.regulations.gov.

FOR FURTHER INFORMATION CONTACT: Cheryl Fenoli, 703-603-5087, CIPAC@hq.dhs.gov.

SUPPLEMENTARY INFORMATION: CIPAC was established pursuant to section 871 of the Homeland Security Act of 2002, 6 U.S.C. 451. The CIPAC Critical Infrastructure Summit convenes the critical infrastructure owner and operator members of the Sector Coordinating Councils (SCCs), including their representative trade associations and Federal, State, local, tribal and territorial governmental entities comprising the members of the Government Coordinating Councils (GCCs), including their representative organizations for all sixteen (16) sectors, members of the State, Local, Tribal and Territorial Government Coordinating Council (SLTTGCC), Regional Consortium Coordinating Council (RC3), Critical Infrastructure Cross-Sector Council, and representatives of other Federal agencies to include the Federal Senior Leadership Council with responsibility for critical infrastructure activities.

The March 1, 2018 meeting will include council highlight updates and panel discussions between participating members regarding issues relevant to critical infrastructure security and resilience.

The meeting may adjourn early if the Council has completed its business. For additional information about CIPAC, please consult the CIPAC website, www.dhs.gov/cipac, or contact the CIPAC Executive Secretariat by phone at 703-603-5087 or by email at CIPAC@hq.dhs.gov.

Public Participation

Meeting Registration Information

Individuals interested in receiving information and updates about the CIPAC Critical Infrastructure Summit may register at http://www.cvent.com/d/gtqsby. Registration is not required to attend the CIPAC Critical Infrastructure Summit, however it is encouraged due to in-person seating and virtual attendance capacity limitations. Those attending virtually via webinar can log in to the event at: https://share.dhs.gov/cipac_summit_mar01/.

Parties that are interested in presenting comments in-person, on the agenda topics, must register no less than 15 minutes prior to the beginning of the meeting at the meeting location. Oral presentations will be permitted based upon the order of registration. All registrants may not be able to speak if time does not permit.

Public Comment

While this meeting is open to the public, participation in the CIPAC deliberations are limited to council members, Department of Homeland Security officials, and persons invited to attend the meeting for special presentations.

Immediately following the “Council Highlights” agenda topic, there will be a limited time period for in-person public comments. Only agenda topics identified under “Meeting Agenda” in this section may be discussed during the in-person public comment period. Relevant public comments may be submitted in advance in writing or presented in person for the Council to consider. Instructions for submitting comments in writing are found within the ADDRESSES caption of this notice, under the heading “Public Comments”. Be advised that off-topic questions or comments will not be permitted or discussed. In person presentations will be limited to two minutes per speaker, with no more than 10 minutes for all speakers. The Department of Homeland Security may post summaries of in person oral comments online at www.regulations.gov.

Information on Services for Individuals With Disabilities

For information on facilities or services for individuals with disabilities or to request special assistance at the meeting, contact the CIPAC Executive Secretariat at 703-603-5087 as soon as possible.

Meeting Agenda

I. Call to Order

II. CIPAC Open

III. Welcoming Remarks

IV. Keynote

V. Cybersecurity and the Way Forward

VI. Moderated Panel Discussion: Cybersecurity and Critical Infrastructure

VII. Lunch

VIII. Keynote—Global Critical Infrastructure Trends

IX. Moderated Panel Discussion: Soft Targets—Crowded Places

X. Moderated Panel Discussion: Hurricane Season 2017 Lessons Learned

XI. Council Highlights

XII. Public Comment Period

XIII. Closing Remarks

XIV. Adjournment/CIPAC Close

Dated: February 5, 2018.
Renee Murphy,
Designated Federal Officer for the CIPAC, Department of Homeland Security.

[FR Doc. 2018-02817 Filed 2-9-18; 8:45 am]

BILLING CODE 9110-9P-P